ENVIRONMENTAL PROTECTION AGENCY

[EPA-HQ-SFUND-2012-0578; FRL-9791-01-OMS]

Information Collection Request Submitted to OMB for Review and Approval; Comment Request; Technical Assistance Needs Assessments (TANAs) at Superfund Remedial or Removal Sites (Renewal)

AGENCY: Environmental Protection Agency (EPA).

ACTION: Notice.

SUMMARY: The Environmental Protection Agency (EPA) has submitted an information collection request (ICR), Technical Assistance Needs Assessments (TANAs) at Superfund Remedial or Removal Sites (EPA ICR Number 2470.03, OMB Control Number 2050-0211) to the Office of Management and Budget (OMB) for review and approval in accordance with the Paperwork Reduction Act. This is a proposed extension of the ICR, which is currently approved through May 2022. Public comments were previously requested via the Federal Register on October 13, 2021, during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 25, 2022.

ADDRESSES: Submit your comments to EPA, referencing Docket ID Number EPA-HQ-SFUND-2012-0578, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Callie Koller, Assessment and Remediation Division, Office of Superfund Remediation and Technology, Mail Code 28221T, Environmental Protection Agency, 1200 Pennsylvania Ave. NW, Washington, DC 20460; telephone number: 202-566-0970; email address: koller.callie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: This ICR covers the usage of TANAs to solicit feedback from members of the affected community in order to determine how the community is receiving technical information about a Superfund remedial or removal site; whether the community requires additional assistance in order to understand and respond to site-related technical information; and whether there are organizations in the community that are interested or involved in site-related issues and capable of acting as an appropriate conduit for technical assistance services to the affected community. EPA estimates that for each TANA it conducts, 20 individuals are interviewed per site via direct face-to-face interaction, phone, or virtual call at five sites, with an approximate total of 100 individuals interviewed each year. Responses to the collection of information are voluntary and the names of respondents will be protected by the Privacy Act. The information obtained from each TANA will help ensure the community's needs for technical information assistance are defined as early in the remedial/removal process as possible and enable meaningful community involvement in the Superfund decision-making process. Additionally, the TANA process produces a blueprint for designing a coordinated effort to meet the community's needs for additional technical assistance while minimizing the overlap of services provided.

Form Numbers: None.

Respondents/affected entities: Local, state, and tribal government officials, potentially responsible party (PRP) representatives, community organizations, businesses and individuals who may be impacted by a Superfund site or a removal action lasting 120 days or longer. These community members voluntarily participate in community involvement activities throughout the remedial phase of the Superfund process. SIC Codes are Occupational Safety and Health Administration's (OSHA's) Standard Industrial Classification System used to identify different groups. Local/state governments are categorized as Division J: Public Administration, Major Group 95: Administration of Environmental Quality, subgroup 9511: Air and Water Resource and Solid Waste Management. The other respondents, community members, do not have a SIC Code as they do not constitute an industry.

Respondent's obligation to respond: Voluntary.

Estimated number of respondents: 100. (20 per TANA at five sites).

Frequency of response: Once during either a removal cleanup lasting 120 days or longer or a remedial cleanup of a site. Each TANA interview is expected to last approximately one hour in duration.

Total estimated burden: 100 hours (per year). Burden is defined at 5 CFR 1320.03(b).

Total estimated cost: $2,587 (per year), includes $0 annualized capital or operation & maintenance costs.

Changes in the Estimates: A decrease of 450 hours in the total respondent burden hours is estimated during the three-year period as compared to the last collection period. The number of individual TANAs sharply declined, from 25 to five per year, thus decreasing the overall number of respondents voluntarily participating in this information request.

Courtney Kerwin,
Director, Regulatory Support Division.

[FR Doc. 2022-08708 Filed 4-22-22; 8:45 am]

BILLING CODE 6560-50-P